FEDERAL COMMUNICATIONS COMMISSION

47 CFR Part 73

[DA 04-655, MM Docket No. 01-54, RM-9918]

Digital Television Broadcast Service; Nampa, ID

AGENCY: Federal Communications Commission.

ACTION: Final rule.

SUMMARY: The Commission, at the request of Idaho Independent Television, Inc., substitutes DTV channel 13c for DTV channel 44 at Nampa, Idaho. See 66 FR 12752, February 28, 2001. DTV channel 13c can be allotted to Nampa, Idaho, in compliance with the principle community coverage requirements of § 73.625(a) at reference coordinates 43-45-18 N. and 116-05-52 W. with a power of 17, HAAT of 829 meters and with a DTV service population of 391 thousand. With this action, this proceeding is terminated.

DATES: Effective May 3, 2004.

FOR FURTHER INFORMATION CONTACT: Pam Blumenthal, Media Bureau, (202) 418-1600.

SUPPLEMENTARY INFORMATION: This is a synopsis of the Commission's Report and Order, MM Docket No. 01-54, adopted March 9, 2004, and released March 19, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Idaho, is amended by removing DTV channel 44 and adding DTV channel 13c at Nampa.

Federal Communications Commission.
Barbara A. Kreisman,
Chief, Video Division, Media Bureau.

[FR Doc. 04-7103 Filed 3-29-04; 8:45 am]

BILLING CODE 6712-01-P